DEPARTMENT OF COMMERCE

National Oceanic and Atmospheric Administration

[I.D. 102400A]

Development of a Code of Conduct for Responsible Aquaculture in the United States Exclusive Economic Zone; Additional Public Workshops

AGENCY: National Marine Fisheries Service (NMFS), National Oceanic and Atmospheric Administration (NOAA), Commerce.

ACTION: Notice of public workshops.

SUMMARY: NMFS publishes information regarding stakeholder input to the development of a Code of Conduct for Responsible Aquaculture in the U.S. Exclusive Economic Zone (Code of Conduct). It is the purpose of such a Code of Conduct to provide general guidance for siting and operating aquaculture facilities in the Exclusive Economic Zone (EEZ) seaward of coastal state boundaries and authorities. NMFS held stakeholder workshops in Seattle, WA, Danvers, MA and Galveston, TX in September, 2000 to gather information for use in developing a draft Code of Conduct. Based on stakeholder interest in other geographic regions, NMFS is conducting three additional workshops. The workshops are open to the public.

DATES: The meeting dates are:

1. Honolulu, HI, November 14, 2000, 10 a.m. - 3 p.m.

2. Miami, FL, November 16, 2000, 10 a.m. - 3 p.m.

3. Silver Spring, MD; November 20, 2000, 9 a.m. - 12:30 p.m.

ADDRESSES: The workshop locations are:

1. Honolulu: University of Hawaii, Hawaii Imin International Conference Center, Jefferson Hall, Pacific Room, East West Center Road, Honolulu, HI 96822.

2. Miami: Rosenstiel School Auditorium, 4600 Rickenbacker Causeway, Miami, FL 33149.

3. Silver Spring: NOAA Auditorium, 1301 East West Highway, Silver Spring, MD. 20910.

FOR FURTHER INFORMATION CONTACT: Edwin Rhodes at (301) 713-2334 or Colin Nash at (360) 871 8309. For specific workshop information contact: Honolulu, HI, Wende Goo (808) 983 5303; Miami, FL, Daniel Benetti (305) 361 4889 or Kim Newlin (305) 361 4464; Silver Spring, MD, Edwin Rhodes, (301) 713 2334.

SUPPLEMENTARY INFORMATION:

Background

NMFS has Federal responsibility for the living marine resources of the United States. Under authorities of the Magnuson-Stevens Fishery Conservation and Management Act, NMFS has responsibility for federally managed species and for the conservation and enhancement of essential fish habitat in the zone seaward of coastal state boundaries to the 200 nautical mile limit of the EEZ. NMFS has additional responsibilities for threatened and endangered species and for marine mammals under authorities of the Endangered Species Act and the Marine Mammal Protection Act. NMFS anticipates increasing aquaculture activity in the EEZ. In order to provide guidance to potential users of the U.S. EEZ for aquaculture, NMFS, with broad stakeholder input, will produce a Code of Conduct for Responsible Aquaculture in the United States Exclusive Economic Zone. It is the purpose of such a Code of Conduct to provide general guidance to the aquaculture industry for siting and operating aquaculture facilities in this zone, and to provide NMFS with a framework that can be used to ensure a more consistent review of aquaculture projects that require agency actions. NMFS may also use the Code of Conduct as a starting point for the development of regulatory standards in the future.

The United States was an active participant in the 1993-1995 consultations that led to the adoption by the Food and Agriculture Organization of the United Nations (FAO) of the Code of Conduct for Responsible Fisheries (FAO Code). While the FAO Code is a voluntary and non-binding instrument, the United States has consistently supported its usefulness as an internationally agreed upon statement of principles that should govern the policies of FAO members in all sectors of the fishing industry, including aquaculture, which is addressed in Article 9 of the FAO Code. Although the Code of Conduct being developed for the U.S. EEZ does not have to follow the FAO model, the FAO Code is an important reference instrument. A copy of the aquaculture section (Article 9) of the FAO Code can be obtained from the contact persons listed here, and can be found on the internet at http://www.fao.org/fi/agreem/codecond/ficonde.asp

NMFS will develop the Code of Conduct in steps. The first step is to get stakeholder input through workshops to assist in Code of Conduct development. NMFS, in consultation with other Federal agencies with authorities in Federal waters, will consider this stakeholder input in producing a draft Code of Conduct, which will be made available for public comment through a Federal Register notice early in 2001. Public comments will be addressed in formulating a final Code of Conduct, which will be published in the Federal Register before January, 2002.

Regional Workshops

NMFS held three workshops in September, 2000, and will hold three more regional workshops to receive additional stakeholder input for development of the Code of Conduct. NMFS seeks input on the scope, content, specificity and use of a Code of Conduct that can be used to help guide aquaculture development in the EEZ. Areas for discussion include, but are not limited to, species choices, siting, transboundary considerations, design and construction of facilities, disease prevention and control, feeds and feeding protocols, effluents and pollution,interactions with wild species and protected resources, general operations, stock enhancement, use conflict resolution, and on-shore impacts. The workshops are open to all interested persons.

Special Accommodations

The workshops will be physically accessible to people with disabilities. Requests for sign language interpretation or other auxiliary aids should be directed to Edwin Rhodes at least 5 days prior to the meeting date.

Dated: October 24, 2000.
Clarence G. Pautzke,
Director, Office of Sustainable Fisheries, National Marine Fisheries Service.

FR Doc. 00-27824 File 10-27-00; 8:45 am]

BILLING CODE 3510-22-S